DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS).

Time and Date: February 21, 2001—9:00 a.m.-5:15 p.m.; February 22, 2001—10:10 a.m.-3:30 p.m.

Place: Hubert H. Humphrey Building, 200 Independence Avenue SW., Room 705A, Washington, DC 20201.

Status: Open.

Purpose: At this meeting the Committee will hear presentations and hold discussions on several health data policy topics. On the first day an update from HHS has been scheduled on the implementation of the administrative simplification provisions of the Health Insurance Portability and Accountability Act of 1996 (HIPAA). The Committee will be briefed by HHS staff on a number of data policy activities including a report from a recent World Health Organization (WHO) Executive Board meeting, an evaluation of the National Health Interview Survey (NHIS) for surveillance of sentinel health indicators, and a presentation on the National Electronic Data Surveillance System (NEDSS) and Public Health Conceptual Data Model. The first day will end with Subcommittee working sessions. The Subcommittee on Privacy and Confidentiality will meet early on day two. Day two of the full Committee meeting will feature a briefing on the International Classification of Diseases, Tenth Revision, Clinical Modification (ICD-10 CM) and a discussion of NCVHS strategic planning. The afternoon agenda is comprised of reports from the Subcommittees and planning future agendas.

Notice: In the interest of security, HHS has instituted stringent procedures for entrance to the Hubert H. Humphrey building by non-government employees. Persons without a government identification card may need to have the guard call for an escort to the meeting.

Contact Person for More Information: Substantive program information as well as summaries of meetings and a roster of committee members may be obtained from Marjorie S. Greenberg, Executive Secretary, NCVHS, National Center for Health Statistics, Centers for Disease Control and Prevention, Room 1100, Presidential Building, 6525 Belcrest Road, Hyattsville, MD 20782, telephone (301) 458-4245. Information also is available on the NCVHS home page of the HHS website: http://www.ncvhs.hhs.gov/, where further information including an agenda will be posted when available.

Dated: January 22, 2001.
James Scanlon,
Director, Division of Data Policy, Office of the Assistant Secretary for Planning and Evaluation.

[FR Doc. 01-2426 Filed 1-26-01; 8:45 am]

BILLING CODE 4151-05-M